DEPARTMENT OF LABOR

Employment and Training Administration

[TA-W-85,417, TA-W-85,417A]

West Linn Paper Company, a Subsidiary of Belgravia Investments, Inc., Including On-Site Leased Workers From Galt Foundation, West Linn, OR; Columbia River Logistics, Inc. (CRL), a Subsidiary of Belgravia Investments, Inc., Including On-Site Leased Workers From Resource Staffing, Vancouver, WA; Amended Certification Regarding Eligibility To Apply for Worker Adjustment Assistance

In accordance with Section 223 of the Trade Act of 1974, as amended (“Act”), 19 U.S.C. 2273, the Department of Labor issued a Certification of Eligibility to Apply for Worker Adjustment Assistance on August 18, 2014, applicable to workers of West Linn Paper Company, a subsidiary of Belgravia Investments, Inc., including on-site leased workers from Galt Foundation, West Linn, Oregon (TA-W-85,417). The Department's Notice of Determination was published in the Federal Register on September 9, 2014 (Volume 79 FR Page 53450).

At the request of a state workforce office, the Department reviewed the certification for workers of the subject firm. The firm is engaged in the production of coated paper.

The investigation confirmed that worker separations at Columbia River Logistics, Inc. (CRL), including on-site leased workers from Resource Staffing, Vancouver, Washington, (TA-W-85,417) are attributable to increased imports of coated paper, as are worker separations at the West Linn, Oregon facility.

The amended notice applicable to TA-W-85,417 and TA-W-85,417A is hereby issued as follows:

All workers of West Linn Paper Company, a subsidiary of Belgravia Investments, Inc., including on-site leased workers from Galt Foundation, West Linn, Oregon (TA-W-85,417) and Columbia River Logistics, Inc., including Resource Staffing, Vancouver, Washington (TA-W-85,417A) who became totally or partially separated from employment on or after July 8, 2013 through August 18, 2016, and all workers in the group threatened with total or partial separation from employment on the date of certification through two years from the date of certification, are eligible to apply for adjustment assistance under Chapter 2 of Title II of the Trade Act of 1974, as amended.

Signed in Washington, DC, this 9th day of October, 2014.
Michael W. Jaffe,
Certifying Officer, Office of Trade Adjustment Assistance.

[FR Doc. 2014-27483 Filed 11-19-14; 8:45 am]

BILLING CODE P